DEPARTMENT OF THE INTERIOR

Bureau of Land Management

[CA-190-03-1610-00]

Correction to Notice of Intent to Prepare an Amendment to the Hollister Resource Management Plan for the Clear Creek Management Area in the Southern Portion of San Benito County and Western Fresno County, CA

AGENCY: Bureau of Land Management, Interior.

ACTION: Notice of correction.

SUMMARY: On April 29, 2003 the Bureau of Land Management published a notice in the Federal Register (68 FR 22733) concerning a Notice of Intent to Prepare an Amendment to the Hollister Resource Management Plan for the Clear Creek Management Area in the southern portion of San Benito County and western Fresno County, CA. The notice omitted the date for when the public comment period ends. The correct date is May 28, 2003.

FOR FURTHER INFORMATION CONTACT: George E. Hill, Assistant Field Manager, Hollister Field Office, (831) 630-5036, or e-mail: George_Hill@ca.blm.gov.

Correction

In the Federal Register of April 29, 2003 on page 22733 in the first column correct the DATES caption to read:

“DATES: Comments on issues and planning criteria can be submitted in writing to the address listed below. Comments should be received on or before May 28, 2003. All public meetings will be announced at least 15 days prior to the event.”

Dated: April 29, 2003.
George E. Hill,
Assistant Field Manager.

[FR Doc. 03-10982 Filed 5-2-03; 8:45 am]

BILLING CODE 4310-84-P